DEPARTMENT OF JUSTICE

Antitrust Division

Notice Pursuant to the National Cooperative Research and Production Act of 1993—American Brush Manufacturers Association

Notice is hereby given that, on September 17, 2004, pursuant to Section 6(a) of the National Cooperative Research and Production Act of 1993, 15 U.S.C. 4301 et seq. (“the Act”), the American Brush Manufacturers Association (“ABMA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: American Brush Manufacturers Association, Aurora, IL. The nature and scope of ABMA's standards development activities are: To maintain voluntary standards for the brush manufacturers industry that assist users and consumers in the standardization of safety requirements regarding power driven brushes and labeling requirements concerning upright brooms and wet mops.

Dorothy B. Fountain,
Deputy Director of Operations, Antitrust Division.

[FR Doc. 04-23782 Filed 10-22-04; 8:45 am]

BILLING CODE 4410-11-M